DEPARTMENT OF THE INTERIOR

Fish and Wildlife Service

[FWS-R7-R-2009-N250; 70133-1265-0000-S3]

Kenai National Wildlife Refuge, Soldotna, AK

AGENCY: U.S. Fish and Wildlife Service, Interior.

ACTION: Notice of availability: record of decision.

SUMMARY: We, the U.S. Fish and Wildlife Service (Service), announce the availability of the record of decision (ROD) for the final environmental impact statement (EIS) for Kenai National Wildlife Refuge (NWR, Refuge). The Refuge is located within the Kenai Peninsula Borough, Alaska. We completed a thorough analysis of the environmental, social, and economic considerations and presented it in our final EIS, which we released to the public on September 18, 2009.

DATES: The Regional Director of the Alaska Region, U.S. Fish and Wildlife Service, signed the ROD on January 4, 2010.

ADDRESSES: You may view or obtain copies of the ROD/final EIS on paper or CD-ROM by any of the following methods:

Agency Web Site: Download a copy of the document(s) at http://alaska.fws.gov/nwr/planning/kenpol.htm.

E-mail: fw7_kenai_planning@fws.gov. Include “Kenai ROD” in the subject line of the message.

Mail: Refuge Manager, Kenai National Wildlife Refuge, P.O. Box 2139, Soldotna, AK 99669-2139.

In-Person Viewing or Pickup: Call Peter Wikoff, Planning Team Leader at (907) 786-3357 to make an appointment during regular business hours at U.S. Fish and Wildlife Service, 1011 East Tudor Rd., MS-231, Anchorage, AK 99503; fax: (907) 786-3965.

FOR FURTHER INFORMATION, CONTACT: Refuge Manager at the address or phone number above.

SUPPLEMENTARY INFORMATION:

Introduction

With this notice, we finalize the CCP process for Kenai NWR. We released the draft CCP/draft EIS to the public, announcing and requesting comments in a notice of availability in the Federal Register on May 8, 2008 (73 FR 26140). We announced the availability of the final CCP/EIS in the Federal Register on August 27, 2009 (74 FR 43718).

In accordance with National Environmental Policy Act (NEPA) (40 CFR 1506.6(b)) requirements, this notice announces the availability of the ROD for the final EIS and CCP for Kenai NWR. We completed a thorough analysis of the environmental, social, and economic considerations, which we included in the final CCP/EIS. The ROD documents our selection of Alternative E, the Preferred Alternative, in the CCP, with modifications. The CCP will guide us in managing and administering Kenai Refuge for the next 15 years. Alternative E, as we described in the final EIS/ROD, is the foundation for the CCP, with modifications.

The Kenai Refuge Comprehensive Conservation Plan provides management guidance that conserves Refuge resources and facilitates compatible fish and wildlife-dependent public use activities during the next 15 years. The following is a summary of the ROD for the Refuge's Final CCP/EIS.

We have selected Alternative E, the Preferred Alterative, with modifications, as the Comprehensive Conservation Plan for Kenai Refuge. Alternative E addresses key issues and concerns identified during the planning process and will best achieve the purposes of the Refuge as well as the mission of the National Wildlife Refuge System. This decision adopts the management goals and objectives (Chapter 2) and the stipulations and mitigation measures identified in Alternative E. Implementation of Alternative E, as modified, will occur over the next 15 years, depending on future staffing levels and funding.

Modifications to Alternative E

With consideration to comments from the State of Alaska, the management direction provided by Alternative E will be modified as follows:

• We will alter the opening date of seasonally closed lakes from September 30 to September 10, to coincide with that of the Alaska Board of Game's Kenai Controlled Use Area in Game Management Unit 15A, when Refuge regulations are updated. These lakes will then remain open for public use until May 1 (approximately when the ice melts) each spring.

• Under current regulations, the operation of aircraft between May 1 and September 30 on any lake where nesting trumpeter swans and/or their broods are present is prohibited. Over the next several years, we will examine swan brood survey data and other information to determine if swan abundance has increased to the point this restriction has created a de facto closure of so many lakes as to significantly impact access to the refuge back-country. We will evaluate our current closure regulations in light of these findings.

Factors We Considered in Decisionmaking

We based our decision on a thorough analysis of the environmental, social, and economic considerations we presented in the Final CCP/EIS. We reviewed and considered the impacts identified in Chapter 4 of the Draft and Final CCP/EIS; relevant issues, concerns, and opportunities; input we received throughout the planning process, including the results of various studies and surveys, advice from technical experts, and public comments on the Draft and Final CCP/EIS; and other factors, including refuge purposes and relevant laws, regulations, and policies. The Final EIS/CCP addresses a variety of needs, including protection of fish and wildlife populations and their habitats and providing opportunities for fish and wildlife-dependent recreation, subsistence, and other public uses. The combination of these components in Alternative E contributes significantly to achieving refuge purposes and goals. Alternative E also strengthens the monitoring of fish, wildlife, habitat, and public uses on the Refuge to provide means to better respond to changing conditions in the surrounding landscape.

The adoption of Alternative E, as modified, is effective immediately.

Dated: January 4, 2010.
Geoffrey L. Haskett,
Regional Director, U.S. Fish & Wildlife Service, Anchorage, Alaska.

[FR Doc. 2010-220 Filed 1-8-10; 8:45 am]

BILLING CODE 4310-55-P